DEPARTMENT OF COMMERCE

National Telecommunications and Information Administration

Community BroadbandUSA Connectivity Initiative Workshop

AGENCY: National Telecommunications and Information Administration, U.S. Department of Commerce.

ACTION: Notice of open meetings.

SUMMARY: The National Telecommunications and Information Administration (NTIA), through the BroadbandUSA program, will hold a half-day workshop on March 22, 2016, to engage stakeholders in developing meaningful measures for community broadband access, adoption, policy and use as part of its efforts to develop the Community Connectivity Initiative. The Community Connectivity Initiative will provide a framework to enable local leaders to better assess their community connectivity and strengthen efforts to align broadband technology with local policies and priorities. The Community Connectivity Initiative will include a tool for helping communities assess their broadband readiness. Stakeholder participation is critical to the design and implementation of the self-assessment tool. NTIA will convene this workshop to provide opportunities for participants to share insights and suggestions on the design of the program. NTIA also announces two webinars to provide additional information on the Community Connectivity Initiative.

DATES: The Community Connectivity Initiative Workshop will be held on March 22, 2016, from 8:30 a.m. to 12:00 noon, Pacific Daylight Time. The first webinar will be held on March 24, 2016, from 2:00 p.m. to 3:00 p.m., Eastern Daylight Time. The second webinar will be held on April 12, 2016, from 2:00 p.m. to 3:00 p.m., Eastern Daylight Time.

ADDRESSES: The Workshop will be held in the Chief Seattle Conference Room of the Federal Office Building (FOB), 909 1st Avenue, Seattle, WA 98174. Individuals are subject to security screening in order to enter the building.

FOR FURTHER INFORMATION CONTACT: Barbara Brown, National Telecommunications and Information Administration, U.S. Department of Commerce, Room 4889, 1401 Constitution Avenue NW., Washington, DC 20230; telephone: (202) 280-8260; email: bbrown@ntia.doc.gov. Please direct media inquiries to NTIA's Office of Public Affairs, (202) 482-7002; email: press@ntia.doc.gov.

SUPPLEMENTARY INFORMATION: NTIA's BroadbandUSA program provides expert advice and field-proven tools for assessing broadband adoption, planning new infrastructure and engaging a wide range of partners in broadband projects. BroadbandUSA convenes workshops on a regular basis to bring stakeholders together to discuss ways to improve broadband policies, share best practices, and connect communities to other federal agencies and funding sources for the purpose of expanding broadband infrastructure and adoption throughout America's communities.

The Community Connectivity Initiative is a recommendation of the Broadband Opportunity Council, an inter-agency working group established by the White House in 2015 “to use all available and appropriate authorities to: Identify and address regulatory barriers that may unduly impede either wired broadband deployment or the infrastructure to augment wireless broadband deployment; encourage further public and private investment in broadband networks and services; promote the adoption and meaningful use of broadband technology; and otherwise encourage or support broadband deployment, competition, and adoption in ways that promote the public interest.”

The workshop and webinars will be open to the public and press. Space is limited and available on a first-come, first-serve basis. Online registration is available for both the in-person workshop on March 22, 2016, and the webinars on March 24, 2016, and April 12, 2016, at https://www.eventbrite.com/e/community-connectivity-workshop-tickets-22458391654. NTIA asks registrants to provide their first and last names and email addresses for both registration purposes and to receive any updates on the Community Connectivity Initiative. If capacity for the workshop is reached, NTIA will maintain a waiting list and will inform those on the waiting list if space becomes available. Additional information about these events as well as meeting updates, changes in the agenda, if any, and relevant documents will be available on NTIA's Web site at https://www.ntia.doc.gov/other-publication/2016/nwcommunityinitiativeworkshop.

The workshop and webinars are accessible to people with disabilities. Individuals requiring accommodations, such as language interpretation or other ancillary aids, are asked to notify Barbara Brown at the contact information listed above at least five (5) business days before the meeting.

Dated: March 4, 2016.
Kathy D. Smith,
Chief Counsel, National Telecommunications and Information Administration.

[FR Doc. 2016-05261 Filed 3-8-16; 8:45 am]

BILLING CODE 3510-60-P